DEPARTMENT OF ENERGY

Federal Energy Regulatory Commission

[Docket No. CP12-58-000]

Port Barre Investments, L.L.C. (d/b/a Bobcat Gas Storage); Notice of Request Under Blanket Authorization

Take notice that on February 6, 2012 Bobcat Gas Storage (Bobcat), 5400 Westheimer Court, Houston, Texas 77056, filed in the above Docket, a prior notice request pursuant to sections 157.205, and 157.208 of the Commission's regulations under the Natural Gas Act (NGA), for authorization to increase the certificated operating pressure on five supply and delivery laterals, four of which are existing and one that is yet to be constructed, from 1,170 psig to 1,320 psig, located at its natural gas storage facility in St. Landry Parish, Louisiana, all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Lisa A. Connolly, General Manager, Rates & Certificates, Bobcat Gas Storage, P.O. Box 1642, Houston, Texas 77251-1642 at (713) 627-4102.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (www.ferc.gov) under the “e-Filing” link.

Dated: February 16, 2012.
Kimberly D. Bose,
Secretary.

[FR Doc. 2012-4413 Filed 2-24-12; 8:45 am]

BILLING CODE 6717-01-P